FEDERAL COMMUNICATIONS COMMISSION

47 CFR Parts 0, 1, 20, 36, 51, 54, 61, 64, and 69

[WC Docket Nos. 10-90, 07-135, 05-337, 03-109; GN Docket No. 09-51; CC Docket Nos. 01-92, 96-45; and WT Docket No. 10-208; DA 20-65; FRS 16475]

Wireline Competition Bureau Seeks To Determine Parties' Continuing Interest in Several Petitions for Reconsideration of Aspects of the USF/ICC Transformation Order

AGENCY: Federal Communications Commission.

ACTION: Final rule; petitions for reconsideration.

SUMMARY: In this document, as part of the Commission's effort to manage its dockets and reduce backlog and in an effort to avoid the need to address issues unnecessarily, the Wireline Competition Bureau (Bureau) seeks to determine parties' continuing interest in eight pending petitions for reconsideration of various aspects of the intercarrier compensation provisions of the USF/ICC Transformation Order. The Bureau therefore plans to dismiss each Petition listed below with prejudice unless a Petitioner files a notice in the relevant dockets within 45 days of the date of Federal Register publication of this Public Notice specifying that it objects to the dismissal of its Petition.

DATES: Responses are due on or before April 20, 2020.

ADDRESSES: You may submit responses, identified by WC Docket Nos. 10-90, 07-135, 05-337, 03-109, GN Docket No. 09-51, CC Docket No. 01-92, CC Docket No. 96-45, and WT Docket No. 10-208, by any of the following methods:

• Federal Communications Commission's website: http://apps.fcc.gov/ecfs/. Follow the instructions for submitting comments.

• People with Disabilities: To request materials in accessible formats for people with disabilities (braille, large print, electronic files, audio format), send an email to fcc504@fcc.gov or call the Consumer & Governmental Affairs Bureau at (202) 418-0530 (voice), 844-432-2275 (videophone), or (202) 418-0432 (TTY).

A copy of each letter should be sent to: Marvin F. Sacks, Pricing Policy Division, Wireline Competition Bureau, 445 12th Street SW, Room 5-A260, Washington, DC 20554; email: marvin.sacks@fcc.gov. For detailed instructions for submitting comments and additional information on the rulemaking process, see the SUPPLEMENTARY INFORMATION section of this document.

FOR FURTHER INFORMATION CONTACT: Marv Sacks, Wireline Competition Bureau, Pricing Policy Division at (202) 418-2017 or via email at: marvin.sacks@fcc.gov.

SUPPLEMENTARY INFORMATION: This is a summary of the Commission's document, DA 20-65, released on January 14, 2020, in which the Wireline Competition Bureau (Bureau) seeks to determine parties' continuing interest in eight pending petitions for reconsideration of various aspects of the intercarrier compensation provisions of the USF/ICC Transformation Order. 76 FR 73830, November 29, 2011. Each of the Petitions was filed in 2011 and no entities have filed comments or ex parte submissions regarding these petitions for several years. In addition, the various requests for relief in the Petitions appear to be moot or are otherwise no longer relevant in light of regulatory changes, including ongoing intercarrier compensation and universal service reforms, that have occurred since these filings were made. The Petitions for Reconsideration that the Bureau plans to dismiss with prejudice unless a Petitioner files a notice of objection to the dismissal in the relevant dockets are the following:

Petitioner | Petitions | Date petition filed
Public Service Commission of the District of Columbia | Petition for Reconsideration of an aspect of the Connect America Fund, A National Broadband Plan for Our Future, Establishing Just and Reasonable Rates for Local Exchange Carriers, High-Cost Universal Service Support, Developing an Unified Intercarrier Compensation Regime, Federal-State Joint Board on Universal Service, Lifeline and Link-Up, Universal Service Reform—Mobility Fund, WC Docket No. 10-90 et al., Report and Order and Further Notice of Proposed Rulemaking, 26 FCC Rcd 17663 (2011) (USF/ICC Transformation Order) | 12/29/2011
MetroPCS Communications, Inc | Petition of MetroPCS Communications, Inc., For Clarification and Limited Reconsideration of aspects of the USF/ICC Transformation Order | 12/29/2011
National Exchange Carrier Association, Inc.; Organization for the Promotion and Advancement of Small Telecommunications Companies; and Western Telecommunications Alliance (Rural Associations) | Petition for Reconsideration and Clarification of aspects of the USF/ICC Transformation Order | 12/29/2011
NTCH, Inc | Petition for Reconsideration of aspects of the USF/ICC Transformation Order | 12/29/2011
Onvoy, Inc. and its affiliate, 360networks (USA) inc | Petition for Clarification or Reconsideration of an aspect of the USF/ICC Transformation Order | 12/23/2011
Sprint Nextel Corporation | Petition for Reconsideration and Clarification of aspects of the USF/ICC Transformation Order | 12/29/2011
United States Telecom Association | Petition for Reconsideration and Clarification of aspects of the USF/ICC Transformation Order | 12/29/2011
Verizon (Verizon Communications Inc. and Verizon Wireless) | Petition for Clarification or, in the Alternative, for Reconsideration of aspects of the USF/ICC Transformation Order | 12/29/2011

Filing Requirements. Pursuant to § 1.419 of the Commission's rules, any Petitioner objecting to the dismissal of its Petition must file a letter stating its objection on or before 45 days after publication in the Federal Register. See 47 CFR 1.419. The letter must reference WC Docket No. 10-90, GN Docket No. 09-51, WC Docket No. 07-135, WC Docket No. 05-337, CC Docket No. 01-92, CC Docket No. 96-45, WC Docket No. 03-109, and WT Docket No. 10-208, and may be filed using the Commission's Electronic Comment Filing System (ECFS) or by filing paper copies. See Electronic Filing of Documents in Rulemaking Proceedings, 63 FR 24121 (1998).

• Electronic Filers: Letters may be filed electronically using the Commission's online Electronic Comment filing System (ECFS): https://www.fcc.gov/ecfs/.

• Paper Filers: Parties who choose to file by paper must file an original and one copy of each filing. Because more than one docket number appears in the caption of this proceeding, filers must submit two additional copies for the additional docket number. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority Mail must be addressed to 445 12th Street SW, Washington DC 20554.

In addition, a copy of each letter should be sent to: Marvin F. Sacks, Pricing Policy Division, Wireline Competition Bureau, 445 12th Street SW, Room 5-A260, Washington, DC 20554; email: marvin.sacks@fcc.gov.

Ex Parte Rules. The proceedings this Public Notice initiates shall be treated as “permit-but-disclose” proceedings in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in these proceedings should familiarize themselves with the Commission's ex parte rules.

Federal Communications Commission.
Kirk Burgee,
Chief of Staff, Wireline Competition Bureau.

[FR Doc. 2020-03835 Filed 3-3-20; 8:45 am]

BILLING CODE 6712-01-P